SECURITIES AND EXCHANGE COMMISSION

[Release No. 34-47428; File No. SR-PCX-2003-05]

Self-Regulatory Organizations; Notice of Withdrawal of Proposed Rule Change by the Pacific Exchange, Inc. Relating to Linkage Fee Charges

March 3, 2003.

On January 31, 2003, the Pacific Exchange, Inc. (“PCX” or “Exchange”) submitted to the Securities and Exchange Commission (“Commission”) a proposed rule change pursuant to section 19(b)(1) of the Securities Exchange Act of 1934 (“Act”),¹ and Rule 19b-4 thereunder,² to provide for fees for certain options intermarket linkage orders. The proposed rule change was published in the Federal Register on February 13, 2003.³ No comment letters were received on the proposal. On February 27, 2003, the Exchange withdrew the proposed rule change.⁴

¹ 15 U.S.C. 78s(b)(1).

² 17 CFR 240.19b-4.

³ See Securities Exchange Act Release No. 47330 (February 6, 2003), 68 FR 7405.

⁴ See letter from Mai Shiver, Senior Attorney, Regulatory Policy, PCX, to Nancy Sanow, Assistant Director, Division of Market Regulation, Commission, dated February 26, 2003.

For the Commission, by the Division of Market Regulation, pursuant to delegated authority.⁵
⁵ 17 CFR 200.30-3(a)(12).
Margaret H. McFarland,
Deputy Secretary.

[FR Doc. 03-5567 Filed 3-7-03; 8:45 am]

BILLING CODE 8010-01-P